DEPARTMENT OF JUSTICE

Antitrust Division

Notice Pursuant to the National Cooperative Research and Production Act of 1993—The Acoustical Society of America

Notice is hereby given that, on September 20, 2004, pursuant to section 6(a) of the National Cooperative Research and Production Act of 1993, 15 U.S.C. 4301 et seq. (“the Act”), The Acoustical Society of America (“ASA”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: The Acoustical Society of America, Melville, NY. The nature and scope of ASA's standards development activities are: To develop standards, specifications, methods of measurement and test, and terminology in the fields of physical acoustics; mechanical vibration and shock; psychological and physiological acoustics; and noise.

Dorothy B. Fountain,
Deputy Director of Operations, Antitrust Division.

[FR Doc. 04-25075 Filed 11-9-04; 8:45 am]

BILLING CODE 4410-11-M